DEPARTMENT OF TRANSPORTATION

Federal Aviation Administration

14 CFR Part 39

[Docket No. FAA-2013-1030; Directorate Identifier 2012-NM-193-AD; Amendment 39-17712; AD 2013-26-03]

RIN 2120-AA64

Airworthiness Directives; Airbus Airplanes

AGENCY: Federal Aviation Administration (FAA), Department of Transportation (DOT).

ACTION: Final rule; request for comments.

SUMMARY: We are superseding airworthiness directive (AD) 2011-24-09 which applied to certain Airbus Model A340-200 and A340-300 series airplanes. AD 2011-24-09 requires inspections to verify electrical bonding for the water drain system and ventilation intake system, and modification if necessary. This new AD requires revising the maintenance program to incorporate certain maintenance requirements and airworthiness limitations, and adds additional airplanes to the applicability. This AD was prompted by a determination that existing maintenance requirements are not adequate to address the unsafe condition. We are issuing this AD to prevent the potential of ignition sources inside fuel tanks, which, in combination with flammable fuel vapors, could result in fuel tank explosions and consequent loss of the airplane.

DATES: This AD becomes effective January 14, 2014.

The Director of the Federal Register approved the incorporation by reference of certain publications listed in the AD as of January 14, 2014.

We must receive comments on this AD by February 13, 2014.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com. You may review copies of the service information at the FAA, Transport Airplane Directorate, 1601 Lind Avenue SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this AD, the MCAI, the regulatory evaluation, any comments received, and other information. The street address for the Docket Operations office (telephone (800) 647-5527) is in the ADDRESSES section. Comments will be available in the AD docket shortly after receipt.

FOR FURTHER INFORMATION CONTACT: Vladimir Ulyanov, Aerospace Engineer, International Branch, ANM-116, Transport Airplane Directorate, FAA, 1601 Lind Avenue SW., Renton, WA 98057-3356; telephone 425-227-1138; fax 425-227-1149.

SUPPLEMENTARY INFORMATION:

Discussion

The European Aviation Safety Agency (EASA), which is the technical agent for the Member States of the European Community, has issued EASA Airworthiness Directive 2012-0168, dated August 31, 2012 (referred to after this as the Mandatory Continuing Airworthiness Information or “the (MCAI”), to correct an unsafe condition for the specified products. The MCAI states:

Prompted by an accident [involving a fuel tank system explosion in flight] * * * the FAA published Special Federal Aviation Regulation (SFAR) 88 (http://rgl.faa.gov/Regulatory_and_Guidance_Library%5CrgFAR.nsf/0/EEFB3F94451DC06286256C93004F5E07?OpenDocument), and the Joint Aviation Authorities (JAA) published Interim Policy INT/POL/25/12. The design review conducted Airbus to develop Fuel Airworthiness Limitations (FAL) * * * now referenced in Airbus A330 and A340 Airworthiness Limitations Section (ALS) Part 5 revision 00 (both approved by EASA on 16 November 2011) * * *.

Failure to comply with items as identified in Airbus A330 and A340 ALS Part 5 could result in a fuel tank explosion and consequent loss of the aeroplane.

To address this condition, EASA issued:

EASA AD 2007-0023 (http://ad.easa.europa.eu/ad/2007-0023) [which corresponds to FAA AD 2007-14-01, Amendment 39-15123, (72 FR 38006, July 12, 2007)] to require compliance with FAL specified in the Airbus A330 FAL Document reference 95A.1932/05 at Issue 02 (comprising maintenance/inspection tasks and Critical Design Configuration Control Limitations (CDCCL)) for A330 aeroplanes, and

EASA AD 2006-0205 (http://ad.easa.europa.eu/ad/2006-0205) [which also corresponds to FAA AD 2007-14-01, Amendment 39-15123, (72 FR 38006, July 12, 2007)] to require compliance with FAL specified in Airbus A340 FAL Document reference 95A.1933/05 at Issue 01 (comprising maintenance/inspection tasks and Critical Design Configuration Control Limitations (CDCCL)) for Airbus A340 aeroplanes.

* * * other EASA ADs required accomplishment of aeroplane modifications related to Fuel Tank Safety items, the requirements and compliance times of which are now integrated into ALS Part 5.

For the reasons described above this [EASA] AD * * * requires the implementation of the new or more restrictive maintenance requirements and/or airworthiness limitations as specified in the revision 00 of * * * Airbus A340 ALS Part 5.

This AD also adds new airplanes to the applicability of this AD. AD 2011-24-09 (76 FR 73486, November 29, 2011) applied to certain Airbus Model A340-200 and A340-300 series airplanes. This AD applies to all Airbus Model A340-200, A340-300, A340-500, and A340-600 series airplanes. We are considering additional rulemaking to address the Airbus Model A330-200 freighter, A330-200, and A330-300 series airplanes. You may obtain further information by examining the MCAI in the AD docket.

Relevant Service Information

Airbus has issued A340 Airworthiness Limitations Section (ALS), Part 5—Fuel Airworthiness Limitations, dated November 16, 2011; and A340 Variation to revision 00 of ALS Part 5—Fuel Airworthiness Limitations (FAL), dated January 23, 2012 (variation reference 0FVLG110039/C0S). The actions described in this service information are intended to correct the unsafe condition identified in the MCAI.

Related Rulemaking

Certain maintenance requirements specified Airbus A340 Airworthiness Limitations Section (ALS), Part 5—Fuel Airworthiness Limitations, dated November 16, 2011, are already required by other ADs. Therefore accomplishing the actions required by this AD will terminate the requirements of the following ADs for Model A340 airplanes:

• AD 2006-21-08, Amendment 39-14793 (71 FR 61639, October 19, 2006);

• AD 2007-14-01, Amendment 39-15123 (72 FR 38006, July 12, 2007);

• AD 2008-25-02, Amendment 39-15760 (73 FR 75307, December 11, 2008);

• AD 2010-04-09, Amendment 39-16202 (75 FR 7940, February 23, 2010; as corrected in the Federal Register on March 3, 2010 (75 FR 9515);

• AD 2011-01-02, Amendment 39-16555 (76 FR 432, January 5, 2011); and

• AD 2012-16-05, Amendment 39-17152 (77 FR 48425, August 14, 2012).

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

There are no products of this type currently registered in the United States. However, this rule is necessary to ensure that the described unsafe condition is addressed if any of these products are placed on the U.S. Register in the future.

This AD requires revisions to certain operator maintenance documents to include new actions (e.g., inspections) and Critical Design Configuration Control Limitations (CDCCLs). Compliance with these actions and CDCCLs is required by 14 CFR 91.403(c). For airplanes that have been previously modified, altered, or repaired in the areas addressed by these actions, the operator may not be able to accomplish the actions described in the revisions. In this situation, to comply with 14 CFR 91.403(c), the operator must request approval for an alternative method of compliance according to paragraph (l)(1) of this AD. The request should include a description of changes to the required actions that will ensure the continued operational safety of the airplane.

FAA's Determination of the Effective Date

Since there are currently no domestic operators of this product, notice and opportunity for public comment before issuing this AD are unnecessary.

Comments Invited

This AD is a final rule that involves requirements affecting flight safety, and we did not precede it by notice and opportunity for public comment. We invite you to send any written relevant data, views, or arguments about this AD. Send your comments to an address listed under the ADDRESSES section. Include “Docket No. FAA-2013-1030; Directorate Identifier 2012-NM-193-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD affects 0 airplanes of U.S. registry.

We estimate the following costs to comply with this AD:

Estimated Costs
Action | Labor cost | Parts cost | Cost per product | Cost on U.S. operators
Revise maintenance program | 1 work-hour × $85 per hour = $85 | $0 | $85 | $0

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing the airworthiness directive: (AD) 2011-24-09, Amendment 39-16873 (76 FR 73486, November 29, 2011), and adding the following new AD:

2013-26-03 Airbus: Amendment 39-17712. Docket No. FAA-2013-1030; Directorate Identifier 2012-NM-193-AD.

(a) Effective Date

This airworthiness directive (AD) becomes effective January 14, 2014.

(b) Affected ADs

(1) This AD supersedes AD 2011-24-09, Amendment 39-16873 (76 FR 73486, November 29, 2011).

(2) Certain requirements of this AD terminate the requirements of the ADs specified in paragraphs (b)(2)(i) through (b)(2)(vi) of this AD, for Airbus Model A340 airplanes only.

(i) AD 2006-21-08, Amendment 39-14793 (71 FR 61639, October 19, 2006).

(ii) AD 2007-14-01, Amendment 39-15123 (72 FR 38006, July 12, 2007).

(iii) AD 2008-25-02, Amendment 39-15760 (73 FR 75307, December 11, 2008).

(iv) AD 2010-04-09, Amendment 39-16202 (75 FR 7940, February 23, 2010; as corrected in the Federal Register on March 3, 2010 (75 FR 9515).

(v) AD 2011-01-02, Amendment 39-16555 (76 FR 432, January 5, 2011).

(vi) AD 2012-16-05, Amendment 39-17152 (77 FR 48425, August 14, 2012).

(c) Applicability

This AD applies to Airbus Model A340-211, A340-212, A340-213, A340-311, A340-312, A340-313, A340-541, and A340-642 airplanes; certificated in any category; all manufacturer serial numbers.

(d) Subject

Air Transport Association (ATA) of America Code 05, Time Limits/Maintenance Checks.

(e) Reason

This AD was prompted by a determination that existing maintenance requirements are not adequate to address the unsafe condition. We are issuing this AD to prevent the potential of ignition sources inside fuel tanks, which, in combination with flammable fuel vapors, could result in a fuel tank explosion and consequent loss of the airplane.

(f) Compliance

You are responsible for having the actions required by this AD performed within the compliance times specified, unless the actions have already been done.

(g) Maintenance Program Revision

(1) Within 3 months after the effective date of this AD, revise the maintenance program by incorporating Airbus A340 Airworthiness Limitations Section (ALS) Part 5—Fuel Airworthiness Limitations, dated November 16, 2011; and Airbus A340 Variation to revision 00 of ALS Part 5—Fuel Airworthiness Limitations (FAL), dated January 23, 2012 (variation reference 0FVLG110039/C0S).

(2) Comply with all applicable instructions and airworthiness limitations included in A340 ALS Part 5—Fuel Airworthiness Limitations, dated November 16, 2011; and Airbus A340 Variation to revision 00 of ALS Part 5—Fuel Airworthiness Limitations (FAL), dated January 23, 2012 (variation reference 0FVLG110039/C0S), except as required by paragraph (i) of this AD. The initial compliance times for the actions specified in Airbus A340 Airworthiness Limitations Section (ALS) Part 5—Fuel Airworthiness Limitations, dated November 16, 2011, are at the later of the times specified in paragraphs (g)(2)(i) and (g)(2)(ii) of this AD; except as required by paragraph (h) of this AD.

(i) Within the applicable compliance times specified in Airbus A340 Airworthiness Limitations Section (ALS) Part 5—Fuel Airworthiness Limitations, dated November 16, 2011, including the Record of Revisions pages of A340 ALS, Part 5—Fuel Airworthiness Limitations, dated November 16, 2011.

(ii) Within 3 months after accomplishing paragraph (g)(1) of this AD.

(h) Compliance Time Exception

For the tasks specified in the table in Sub-Part 5-4 Repetitive Maintenance/Inspections Tasks of Airbus A340 Airworthiness Limitations Section (ALS) Part 5—Fuel Airworthiness Limitations, dated November 16, 2011, the initial compliance times are at the later of the times specified in paragraph (h)(1) and (h)(2) of this AD.

(1) Before the accumulation of the applicable compliance time specified in the “Interval” column on airplanes identified in the “Applicability” column.

(2) Within 3 months after accomplishing paragraph (g)(1) of this AD.

(i) Exception for Compliance Time for Modification of Control Circuit

Where Airbus A340 ALS Part 5, Fuel Airworthiness Limitations, dated November 16, 2011, specifies a calendar compliance time for modifying the control circuit for the fuel pump of the center fuel tank (for Model A340-200 and A340-300 airplanes), and of the center and rear center fuel tanks (for Model A340-541 and A340-642 airplanes), and installing ground fault interrupters to the center tank fuel pump control circuit, the calendar compliance time is September 18, 2016 (48 months after the effective date of AD 2012-16-05, Amendment 39-17152 (77 FR 48425, August 14, 2012)).

(j) No Alternative Actions, Intervals, or Critical Design Configuration Control Limitations (CDCCLs)

After accomplishing the revision required by paragraph (g) of this AD, no alternative actions (e.g., inspections), intervals, or CDCCLs may be used, except as defined in paragraphs (h) and (i) of this AD, or unless the actions, intervals, or CDCCLs are approved as an alternative method of compliance (AMOC) in accordance with the procedures specified in paragraph (l)(1) of this AD.

(k) Terminating Action for Other ADs

Accomplishing the revision required by paragraph (g)(1) of this AD terminates the requirements of the ADs specified in paragraphs (k)(1) through (k)(6) of this AD, for Airbus Model A340 airplanes only.

(1) AD 2006-21-08, Amendment 39-14793 (71 FR 61639, October 19, 2006).

(2) AD 2007-14-01, Amendment 39-15123 (72 FR 38006, July 12, 2007).

(3) AD 2008-25-02, Amendment 39-15760 (73 FR 75307, December 11, 2008).

(4) AD 2010-04-09, Amendment 39-16202 (75 FR 7940, February 23, 2010; as corrected in the Federal Register on March 3, 2010 (75 FR 9515).

(5) AD 2011-01-02, Amendment 39-16555 (76 FR 432, January 5, 2011).

(6) AD 2012-16-05, Amendment 39-17152 (77 FR 48425, August 14, 2012).

(l) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone: (425) 227-1138; fax: (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer, use these actions if they are FAA-approved. Corrective actions are considered FAA-approved if they were approved by the State of Design Authority (or its delegated agent, or the DAH with a State of Design Authority's design organization approval). For a repair method to be approved, the repair approval must specifically refer to this AD. You are required to ensure the product is airworthy before it is returned to service.

(m) Related Information

Refer to Mandatory Continuing Airworthiness Information European Aviation Safety Agency (EASA) Airworthiness Directive 2012-0168, dated August 31, 2012, for related information, which can be found in the AD docket on the Internet at http://www.regulations.gov.

(n) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Airbus A340 Airworthiness Limitations Section (ALS) Part 5—Fuel Airworthiness Limitations, Revision 00, dated November 16, 2011. The revision date is not identified on the title page of this document.

(ii) Airbus A340 Variation to revision 00 of ALS Part 5—Fuel Airworthiness Limitations (FAL), dated January 23, 2012 (variation reference 0FVLG110039/C0S).

(3) For service information identified in this AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com.

(4) You may review copies of the service information at the FAA, Transport Airplane Directorate, 1601 Lind Avenue SW., Renton, Washington. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on December 11, 2013.
John P. Piccola,
Acting Manager, Transport Airplane Directorate, Aircraft Certification Service.

[FR Doc. 2013-31042 Filed 12-27-13; 8:45 am]

BILLING CODE 4910-13-P